NUCLEAR REGULATORY COMMISSION

10 CFR Part 72

[NRC-2020-0166]

RIN 3150-AK50

List of Approved Spent Fuel Storage Casks: NAC International, Inc. MAGNASTOR® Storage System, Certificate of Compliance No. 1031, Amendment No. 9

AGENCY: Nuclear Regulatory Commission.

ACTION: Direct final rule; confirmation of effective date.

SUMMARY: The U.S. Nuclear Regulatory Commission (NRC) is confirming the effective date of December 7, 2020, for the direct final rule that was published in the Federal Register on September 22, 2020. The direct final rule amends the NRC's spent fuel storage regulations by revising the NAC International, Inc. MAGNASTOR® Storage System listing within the “List of approved spent fuel storage casks” to include Amendment No. 9 to Certificate of Compliance No. 1031.

DATES: Effective date: The effective date of December 7, 2020, for the direct final rule published September 22, 2020 (85 FR 59395), is confirmed.

ADDRESSES: Please refer to Docket ID NRC-2020-0166 when contacting the NRC about the availability of information for this action. You may obtain publicly-available information related to this action by any of the following methods:

• Federal Rulemaking Website: Go to https://www.regulations.gov and search for Docket ID NRC-2020-0166. Address questions about NRC dockets to Dawn Forder; telephone: 301-415-3407; email: Dawn.Forder@nrc.gov. For technical questions, contact the individual listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The proposed amendment to the certificate of compliance, the proposed changes to the technical specifications, and the preliminary safety evaluation report are available in ADAMS under Accession No. ML20174A550. The final amendment to the certificate of compliance, final changes to the technical specifications, and final safety evaluation report can also be viewed in ADAMS under Accession No. ML20307A116.

• Attention: The Public Document Room (PDR), where you may examine and order copies of public documents, is currently closed. You may submit your request to the PDR via email at pdr.resource@nrc.gov or call 1-800-397-4209 between 8:00 a.m. and 4:00 p.m. (EST), Monday through Friday, except Federal holidays.

FOR FURTHER INFORMATION CONTACT: Angella Love Blair, Office of Nuclear Material Safety and Safeguards, U.S. Nuclear Regulatory Commission, Washington, DC 20555-0001; telephone: 301-415-3453, or email: Angella.LoveBlair@nrc.gov.

SUPPLEMENTARY INFORMATION: On September 22, 2020 (85 FR 59395), the NRC published a direct final rule amending its regulations in part 72 of title 10 of the Code of Federal Regulations to revise the NAC International, Inc. MAGNASTOR® Storage System listing within the “List of approved spent fuel storage casks” to include Amendment No. 9 to Certificate of Compliance No. 1031. Amendment No. 9 revises the certificate of compliance to add a new concrete storage overpack; four new heat load zone patterns and their associated decay heats that are specific to Babcock and Wilcox 15x15 fuel assemblies; a new Babcock & Wilcox 15x15 hybrid fuel assembly type (BW15H5); and a new maximum enrichment for the BW15H2 hybrid fuel assembly, including a new minimum soluble boron concentration during loading and unloading operations and neutron absorber areal density. In addition, Amendment No. 9 makes non-technical changes to reorganize Appendix B of the technical specifications.

In the direct final rule published on September 22, 2020, the NRC stated that if no significant adverse comments were received, the direct final rule would become effective on December 7, 2020. The NRC received and docketed two comments on the companion proposed rule (85 FR 59447; September 22, 2020). Electronic copies of the comments can be obtained from the Federal Rulemaking website at https://www.regulations.gov under Docket ID NRC-2020-0166 and are also available in ADAMS under Accession Nos. ML20295A201 and ML20300A482, respectively.

The NRC evaluated the comments against the criteria described in the direct final rule and determined that the comments were not significant and adverse. Specifically, the comments were outside the scope of this rulemaking, did not oppose the rule, or did not propose a change to the rule, such that the rule would be ineffective or unacceptable without a change. Therefore, the direct final rule will become effective as scheduled.

Dated: November 13, 2020.
For the Nuclear Regulatory Commission.
Cindy K. Bladey,
Chief, Regulatory Analysis and Rulemaking Support Branch, Division of Rulemaking, Environmental, and Financial Support, Office of Nuclear Material Safety and Safeguards.

[FR Doc. 2020-25525 Filed 11-20-20; 8:45 am]

BILLING CODE 7590-01-P